DEPARTMENT OF TRANSPORTATION

Office of the Secretary

Notice of Applications for Certificates of Public Convenience and Necessity and Foreign Air Carrier Permits Filed Under Subpart B (Formerly Subpart Q) During the Week Ending July 3, 2010

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0167.

Date Filed: June 29, 2010.

Due Date for Answers, Conforming Applications, or Motion to Modify Scope: July 20, 2010.

Description: Application of Virgin America Inc. requesting a certificate of public convenience and necessity to engage in foreign scheduled air transportation of persons, property and mail between the United States and Mexico.

Docket Number: DOT-OST-2010-0093.

Date Filed: July 28, 2010.

Due Date for Answers, Conforming Applications, or Motion to Modify Scope: July 19, 2010.

Description: Amendment of Open Joint Stock Company Transaero Airlines to its pending application for a foreign air carrier permit to include authority to provide scheduled foreign air transportation of persons, property and mail (i) from any point or points behind the Russian Federation, via any point or points in the Russian Federation and intermediate points, to New York, New York and Miami, Florida, and (ii) from New York, New York and Miami, Florida, to any point or points in the Russian Federation and beyond.

Barbara J. Hairston,
Supervisory Dockets Officer, Docket Operations, Alternate Federal Register Liaison.

[FR Doc. 2010-17360 Filed 7-15-10; 8:45 am]

BILLING CODE 4910-9X-P